FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Recordkeeping and disclosure requirements in connection with regulation Z (Truth in Lending).

OMB Number: 3064-0082.

Annual Burden:

Estimated annual number of respondents: 5,662.

Estimated time per response: 787 hours.

Total annual burden hours: 4,455,994 hours.

Expiration Date of OMB Clearance: September 30, 2001.

SUPPLEMENTARY INFORMATION: Regulation Z (12 CFR part 226), issued by the Board of Governors of the Federal Reserve System, prescribes uniform methods of computing the cost of credit, disclosure of credit terms, and procedures for resolving billing errors on certain credit accounts.

2. Type of Review: Renewal of a currently approved collection.

Title: Recordkeeping and disclosure requirements in connection with regulation M (Consumer Leasing).

OMB Number: 3064-0083.

Annual Burden:

Estimated annual number of respondents: 5,662.

Estimated time per response: 4 hours.

Total annual burden hours: 22,648 hours.

Expiration Date of OMB Clearance: September 30, 2001.

SUPPLEMENTARY INFORMATION: Regulation M (12 CFR part 2123), issued by the Board of Governors of the Federal Reserve System, implements the consumer leasing provisions of the Truth in Lending Act.

3. Type of Review: Renewal of a currently approved collection.

Title: Recordkeeping and disclosure requirements in connection with regulation E (Electronic Fund Transfers).

OMB Number: 3064-0084.

Annual Burden:

Estimated annual number of respondents: ,662.

Estimated time per response: 120.4 hours.

Total annual burden hours: 681,705 hours.

Expiration Date of OMB Clearance: September 30, 2001.

SUPPLEMENTARY INFORMATION: Regulation E (12 CFR part 205), issued by the Board of Governors of the Federal Reserve System, establishes the rights, liabilities, and responsibilities of consumers who use electronic fund transfer services and of financial institutions that offer these services.

4. Type of Review: Renewal of a currently approved collection.

Title: Recordkeeping and Disclosure Requirements in Connection with Regulation B (Equal Credit Opportunity).

OMB Number: 3064-0085.

Annual Burden:

Estimated annual number of respondents: 5,662.

Estimated time per response: 43 hours.

Total annual burden hours: 243,466 hours.

Expiration Date of OMB Clearance: September 30, 2001.

SUPPLEMENTARY INFORMATION: Regulation B (12 CFR part 202), issued by the Board of Governors of the Federal Reserve System, prohibits creditors from discriminating against applicants on any of the bases specified by the Equal Credit Opportunity Act, establishes guidelines for gathering and evaluating credit information, and requires creditors to give applicants a written notification of rejection of an application.

OMB Reviewer: Alexander T. Hunt, (202) 395-7860, Office of Management and Budget, Office of Information and Regulatory Affairs, Washington, DC 20503.

FDIC Contact: Tamara R. Manly, (202) 898-7453, Office of the Executive Secretary, Room F-4058, Federal Deposit Insurance Corporation, 550 17th Street NW., Washington, DC 20429.

Comments: Comments on these collections of information are welcome and should be submitted on or before September 13, 2001 to both the OMB reviewer and the FDIC contact listed above.

ADDRESSES: Information about this submission, including copies of the proposed collections of information, may be obtained by calling or writing the FDIC contact listed above.

Federal Deposit Insurance Corporation.
Dated: August 8, 2001.
James D. LaPierre,
Deputy Executive Secretary.

[FR Doc. 01-20361 Filed 8-13-01; 8:45 am]

BILLING CODE 6714-01-P